DEPARTMENT OF THE INTERIOR

National Park Service

[NPS-WASO-NAGPRA-16431; PPWOCRADN0-PCU00RP14.R50000]

Notice of Intent To Repatriate Cultural Items: California State University, Long Beach, and California State University, Sacramento, CA

AGENCY: National Park Service, Interior.

ACTION: Notice.

SUMMARY: California State University, Sacramento and California State University, Long Beach, in consultation with the appropriate Indian tribes or Native Hawaiian organizations, have determined that the cultural items listed in this notice meet the definition of unassociated funerary objects. Lineal descendants or representatives of any Indian tribe or Native Hawaiian organization not identified in this notice that wish to claim these cultural items should submit a written request to the California State University, Sacramento. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the California State University, Sacramento at the address in this notice by October 10, 2014.

ADDRESSES: Orn Bodvarsson, Dean of the College of Social Sciences and Interdisciplinary Studies, CSUS, 6000 J Street, Sacramento, CA 95819-6109, telephone (916) 278-4864, email obbodvarsson@csus.edu.

SUPPLEMENTARY INFORMATION: Notice is here given in accordance with the Native American Graves Protection and Repatriation Act (NAGPRA), 25 U.S.C. 3005, of the intent to repatriate cultural items under the control of the California State University, Long Beach, and in the physical custody of California State University, Sacramento, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

In 1967, 199 cultural items were removed from 4-SJo-17 in San Joaquin County, CA, during a salvage excavation project on private property. Faculty and students from what was then Long Beach State College (now California State University, Long Beach) and local volunteers conducted the excavations. The unassociated funerary objects included in this notice were transferred to California State University, Sacramento, from California State University, Long Beach, via California State University, Fresno, during the 1990s. The 199 unassociated funerary objects are 22 baked clay fragments, 1 piece of daub, 114 non-human bone fragments, 3 worked bones, 20 flaked stones, 13 modified stones, 11 unmodified stones, 1 manuport, 2 pieces of charcoal, 2 shell beads, and 10 pieces of modified shell.

Based on burial patterns and artifact types, the unassociated funerary objects are dated to the Middle Horizon (2,500-2,000 B.P.). The establishment of a cultural chronology of the 4-SJo-17 collection relied upon the California Prehistoric Cultural Chronology and Artifact Classification System used by most regional archeologists. Multiple lines of evidence were used to determine the antiquity of this collection. Geographic, linguistic, archeological, and ethnographic evidence, as well as oral historical evidence presented at consultation, were used to determine cultural affiliation to the Eastern Miwok and Central Valley Yokuts peoples. The Eastern Miwok and Yokuts cultures of the Late Horizon (from 1,500 years ago to the European contact) are believed to have descended from the Middle Horizon cultures represented at this site, which lies on the border of the traditional territory of the Eastern Miwok and the Northern Valley Yokuts.

Determinations Made by the California State University, Sacramento, and California State University, Long Beach

Officials of California State University, Sacramento, and California State University, Long Beach, have determined that:

• Pursuant to 25 U.S.C. 3001(3)(B), the 199 cultural items described in this notice are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Buena Vista Rancheria of Me-wuk Indians of California; California Valley Miwok Tribe, California; Chicken Ranch Rancheria of Me-Wuk Indians of California; Ione Band of Miwok Indians of California; Jackson Rancheria of Me-Wuk Indians of California; Picayune Rancheria of the Chukchansi Indians of California; Santa Rosa Indian Community of the Santa Rosa Rancheria, California; Shingle Springs Band of Miwok Indians, Shingle Springs Rancheria (Verona Tract), California; Table Mountain Rancheria of California; Tule River Indian Tribe of the Tule River Reservation, California; and Tuolumne Band of Me-Wuk Indians of the Tuolumne Rancheria of California.

Additional Requestors and Disposition

Lineal descendants or representatives of any Indian tribe or Native Hawaiian organization not identified in this notice that wish to claim these cultural items should submit a written request with information in support of the claim to Orn Bodvarsson, Dean of the College of Social Sciences and Interdisciplinary Studies, CSUS, 6000 J Street, Sacramento, California, 95819-6109; telephone: (916) 278-4864, email: obbodvarsson@csus.edu, by October 10, 2014. After that date, if no additional claimants have come forward, transfer of control of the unassociated funerary objects to the Buena Vista Rancheria of Me-wuk Indians of California; California Valley Miwok Tribe, California; Chicken Ranch Rancheria of Me-Wuk Indians of California; Ione Band of Miwok Indians of California; Jackson Rancheria of Me-Wuk Indians of California; Picayune Rancheria of the Chukchansi Indians of California; Santa Rosa Indian Community of the Santa Rosa Rancheria, California; Shingle Springs Band of Miwok Indians, Shingle Springs Rancheria (Verona Tract), California; Table Mountain Rancheria of California; Tule River Indian Tribe of the Tule River Reservation, California; and Tuolumne Band of Me-Wuk Indians of the Tuolumne Rancheria of California may proceed.

California State University, Sacramento is responsible for notifying the Buena Vista Rancheria of Me-wuk Indians of California; California Valley Miwok Tribe, California; Chicken Ranch Rancheria of Me-Wuk Indians of California; Ione Band of Miwok Indians of California; Jackson Rancheria of Me-Wuk Indians of California; Picayune Rancheria of the Chukchansi Indians of California; Santa Rosa Indian Community of the Santa Rosa Rancheria, California; Shingle Springs Band of Miwok Indians, Shingle Springs Rancheria (Verona Tract), California; Table Mountain Rancheria of California; Tule River Indian Tribe of the Tule River Reservation, California; and Tuolumne Band of Me-Wuk Indians of the Tuolumne Rancheria of California that this notice has been published.

Dated: August 3, 2014.
Melanie O'Brien,
Acting Manager, National NAGPRA Program.

[FR Doc. 2014-21477 Filed 9-9-14; 8:45 am]

BILLING CODE 4312-50-P